DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below of BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) Modified ⋄ Elevation in feet (NAVD) Modified
Illinois | Monmouth (City) Warren County (FEMA Docket No. 7623) | Unnamed Creek |  | *766
Maps are available for inspection at the Zoning Office, 100 East Broadway, Monmouth, Illinois.
Iowa | Hancock County (Unincorporated Areas) (FEMA Docket No. 7623) | Bear Creek Winnebago River |  | *1,205
Maps are available for inspection at Hancock County Courthouse, 855 State Street, Garner, Iowa.
Kansas | Manhattan (City) Riley County (FEMA Docket No. 7401) | Kansas River | Approximately 3,600 feet downstream of State Highway 177 | *1,013
|  |  | Approximately 2,000 feet downstream of State Highway 177 (at County Boundary) | *1,015
|  |  | Approximately 1,600 feet upstream of State Highway 177 | *1,018
|  | Wildcat Creek | Just downstream of the Union Pacific Railroad | *1,020
|  |  | Just upstream of K-18 Highway | *1,025
|  |  | Approximately 9,200 feet upstream of confluence with Little Kitten Creek | *1,060
|  | Little Kitten Creek | Approximately 1,750 feet above confluence with Wildcat Creek | *1,055
|  |  | Approximately 3,700 feet upstream of Kimball Avenue | *1,144
Kansas | Manhattan (City) Riley County (Cont'd) (FEMA Docket No. 7401) | Virginia-Nevada Tributary | At confluence with Wildcat Creek | *1,038
|  |  | At upstream side of Dickens Avenue | *1,068
|  | CI-CO Tributary | At Anderson Avenue | *1,051
|  |  | Approximately 1,560 feet upstream of Clafin Road | *1,076
Maps are available for inspection at the Community Development Office, 1101 Poyntz Avenue, Manhattan, Kansas.
Kansas | Riley (City) Riley County (FEMA Docket No. 7254) | Wildcat Creek Tributary | Just downstream of Chestnut Street | *1,270
|  |  | Approximately 450 feet upstream of Walnut Street | *1,281
Maps are available for inspection at the City of Riley, City Hall, 902 North Noble, Riley, Kansas.
Kansas | Riley County (Unincorporated Areas) (FEMA Docket No. 7401) | Kansas River | At downstream county boundary | *900
|  |  | Approximately 5,700 feet upstream of confluence with Big Blue River | *1,013
Kansas | Riley County (Cont'd) (Unincorporated Areas) (FEMA Docket No. 7401) | Kansas River | Approximately 11,800 feet downstream of the confluence with Dry Branch | *1,041
|  |  | Approximately 1,000 feet downstream of Wildcat State Highway 18 | *1,048
|  | Wildcat Creek | At confluence with Kansas River | *1,019
|  |  | Approximately 4,600 feet upstream of confluence with Little Kitten Creek | *1,055
|  |  | Approximately 1,000 feet downstream of North Scenic Drive | *1,062
|  | Little Kitten Creek | At confluence with Wildcat Creek | *1,051
|  |  | Just downstream of Anderson Avenue | *1,061
| Eureka Valley Tributary | At confluence with Sevenmile Creek |  | *1,034
|  |  | Approximately 300 feet upstream of State Highway 18 | *1,037
|  |  | Just downstream of Wildcat Creek Road | *1,073
Kansas | Riley County (Cont'd) Unincorporated Areas) FEMA Docket No. 7401) | CI-CO Tributary | At confluence with Wildcat Creek | *1,045
|  |  | Just upstream of Missouri, Kansas, and Texas Railroad | *1,051
Maps are available for inspection at the Riley County Planning and Zoning Office, 110 Courthouse Plaza, Manhattan, Kansas.
Louisana | Delcambre (Town) Iberia and Vermilion Parishes (FEMA Docket No. 7609) | Gulf of Mexico | Intersection of South Railroad Street and East Charity Street | *10
|  |  | Intersection of North Railroad Street and Kirk Street | *9
Maps are available for inspection at the Office of the Mayor, Town of Delcambre, 107 N. Railroad Road, Delcambre, Louisiana.
Wisconsin | Darlington (City) Lafayette County (FEMA Docket No. 7623) | Pecatonica River | Approximately 200 feet downstream of Main Street | *823
|  |  | At upstream corporate limit, approximately 1,650 feet upstream of the Union Pacific Railroad | *827
Maps are available for inspection at City Hall, 627 Main Street, Darlington, Wisconsin.
Wisconsin | Lafayette County (Unincorporated Areas) (FEMA Docket No. 7623) | Pecatonica River | Approximately 1,000 feet upstream of the confluence of Vinegar Branch at the City of Darlington corporate limits | *822
|  |  | Just downstream of the Union Pacific Railroad, approximately 2,500 feet downstream of Ferndale Road | *841
Maps are available for inspection at Lafayette County Courthouse, 627 Washington Street, Darlington, Wisconsin.

(Catalog of Federal Domestic Assistance No. 83.100, “Flood Insurance.”)

Dated: July 15, 2003.
Anthony S. Lowe,
Mitigation Division Director, Emergency Preparedness and Response Directorate.

[FR Doc. 03-19247 Filed 7-28-03; 8:45 am]

BILLING CODE 6718-04-P